SMALL BUSINESS ADMINSTRATION

Public Federal Regulatory Enforcement Fairness Hearing; Small Business Administration, Region IX Regulatory Fairness Board

The Small Business Administration Region IX Regulatory Fairness Board and the SBA Office of the National Ombudsman will hold a Public Hearing on Tuesday, February 4, 2003 at 9 a.m. (Local Time) at the Prince Jonah Kuhio Kalanianaole (PJKK) Federal Building, 300 Ala Moana Boulevard, Room 5-208, Honolulu, HI 96850-4981, to receive comments and testimony from small business owners, small government entities, and small non-profit organizations concerning regulatory enforcement and compliance actions taken by federal agencies.

Anyone wishing to attend or to make a presentation must contact Ann Murata in writing or by fax, in order to be put on the agenda. Ann Murata, U.S. Small Business Administration, Hawaii District Office, 300 Ala Moana Boulevard, Room 2-235, Honolulu, HI 96850, phone (808) 541-2992, fax (202) 481-0267, e-mail ann.murata@sba.gov.

For more information, see our Web site at http://www.sba.gov/ombudsman.

Dated: January 24, 2003.
C. Edward Rowe III,
Counsel, Office of the National Ombudsman.

[FR Doc. 03-2272 Filed 1-30-03; 8:45 am]

BILLING CODE 8025-01-P